DEPARTMENT OF THE INTERIOR

Fish and Wildlife Service

[FWS-R1-R-2011-N091; 1265-0000-10137-SC]

Hawaiian and Pacific Islands National Wildlife Refuge Complex; Wilderness Review and Legislative Environmental Impact Statement

AGENCY: Fish and Wildlife Service, Interior.

ACTION: Notice of intent; request for comments.

SUMMARY: We, the U.S. Fish and Wildlife Service (Service), intend to conduct a wilderness review (WR) to evaluate lands and waters within the Hawaiian and Pacific Islands National Wildlife Refuge Complex (Refuge Complex), to identify Wilderness Study Areas (WSAs), and to determine if the WSAs are suitable for recommending Congressional designation as wilderness. We will also prepare a legislative environmental impact statement (LEIS), to evaluate the effects of various WR/LEIS alternatives. We provide this notice to advise the public, other agencies, and organizations of our intent, and to obtain public comments, suggestions, and information on the scope of issues to consider during development of the WR/LEIS.

DATES: To accommodate the holidays, we are providing a 45 day public comment period. Please send your written comments by January 30, 2012. We will announce future opportunities for public input on our Web site and through local news outlets.

ADDRESSES: Information about the Refuge Complex is available on our Web site http://www.pacificislands.fws.gov. Send your written comments or requests for more information by any of the following methods.

Email: FW1PlanningComments@fws.gov. Include “Wilderness LEIS” in the subject line of the message.

Fax: Attn: Matthew Ching, (808) 792-9585.

U.S. Mail: Matthew Ching, Wilderness Coordinator, Hawaiian and Pacific Islands National Wildlife Refuge Complex, 300 Ala Moana Blvd., Room 5-231, Honolulu, HI 96850.

FOR FURTHER INFORMATION CONTACT: Matthew Ching, (808) 792-9540 (phone).

SUPPLEMENTARY INFORMATION:

Background

Under the direction and authorization of the Wilderness Act of 1964 (16 U.S.C. 1131-1136), the National Wilderness Preservation System (NWPS) was created, which included a process for Federal land management agencies to recommend areas to Congress for designation as wilderness. Wilderness, as defined by the Wilderness Act, is untrammeled (free from man's control), undeveloped, and natural, and offers outstanding opportunities for solitude or primitive and unconfined recreation. The National Wildlife Refuge System manages designated wilderness areas on national wildlife refuges in accordance with Service policies (610 FW 1-4) to secure an enduring resource of wilderness, and accomplish refuge purposes in a way that preserves wilderness character. Our policies on wilderness stewardship and refuge planning require us to conduct refuge wilderness reviews, which include the following.

• A wilderness inventory is conducted to identify refuge lands and waters that meet the definition of wilderness in the Wilderness Act.

• If refuge lands and waters meet the minimum criteria, one or more wilderness study areas (WSAs) may be established.

• A wilderness study is conducted to further evaluate and determine if each WSA is suitable for recommending Congressional designation as wilderness.

We will develop the WR/LEIS in compliance with the National Environmental Policy Act of 1969, as amended (42 U.S.C. 4321); its implementing regulations (40 CFR 1500-1508); the Wilderness Act of 1964; and Service policy on wilderness reviews and evaluations.

Refuge Complex Overview

The Refuge Complex manages the following national wildlife refuges: Baker Island, Guam, Hakalau Forest, Hanalei, Hawaiian Islands, Howland Island, Hulē`ia, James Campbell, Jarvis Island, Johnston Island, Kakahai`a, Keālia Pond, Kīlauea Point, Kingman Reef, Mariana Arc of Fire, Mariana Trench, Midway Atoll, O`ahu Forest, Palmyra Atoll, Pearl Harbor, Rose Atoll, and Wake Atoll. These refuges are located in Hawai'i, Honolulu, Kauai, and Maui Counties, HI; U.S. Pacific Island Territories; and the Commonwealth of the Northern Mariana Islands. The Refuge Complex covers more than 54 million acres, and encompasses some of the best remaining wildlife habitat in the Pacific Ocean. The Refuge Complex is home to some of the rarest endangered flora and fauna in the world, and extraordinary biological, chemical, and geological phenomena. Several refuges contain significant cultural and historic resources as well. Some of the refuges, many located on the main Hawaiian Islands, offer recreational opportunities, educational programs, and guided tours to the public. However, a majority of the refuges in the Refuge Complex are closed to public access to protect their unique and fragile natural resources.

Refuges With Completed Wilderness Inventories

A brief summary and table of the Refuge Complex's existing WSAs and studies follow.

• We completed wilderness inventories and subsequent WSA studies for the Baker Island, Howland Island, and Jarvis Island Refuges in September 2008 as part of their comprehensive conservation plans (CCP). We determined that each refuge contains a WSA that is suitable for a possible wilderness recommendation. Since then, the jurisdictional boundaries of these refuges were expanded by Secretary's Order 3284; therefore, we will conduct inventories in the expansion areas, and if WSAs are identified, we will complete the wilderness review process for each new and existing WSA as part of our WR/LEIS.

• We completed a wilderness inventory and identified a WSA on the Hakalau Forest Refuge, as part of the refuge's CCP completed in September 2010. The WSA review process will be completed as part of our WR/LEIS.

• We completed the wilderness inventory and review process for the Hawaiian Islands Refuge in 1974. We will conduct a new wilderness inventory and review process as part of our WR/LEIS.

The following table summarizes the status of the wilderness review process for each WSA currently established within the Refuge Complex.

Refuge | Inventory date results | Date of study determination | Date of submission recommendation
Baker Island¹ | September 2008, WSA identified | September 2008, Suitable for possible wilderness recommendation | Will be part of WR/LEIS.
Hakalau Forest | September 2010, WSA identified | Study will be part of WR/LEIS | To be determined during WSA Study.
Hawaiian Islands ² | April 24, 1970, WSA identified | June 1974, Suitable for possible wilderness recommendation | June 1974, Wilderness proposal submitted to Congress.
Howland Island¹ | September 2008, WSA identified | September 2008, Suitable for possible wilderness recommendation | Will be part of WR/LEIS.
Jarvis Island¹ | September 2008, WSA identified | September 2008, Suitable for possible wilderness recommendation | Will be part of WR/LEIS.
¹ As part of our WR/LEIS, we will also conduct an inventory of refuge expansion areas. If WSAs are identified, we will complete the review process for each WSA.
² As part of our WR/LEIS, we will conduct a new inventory of the refuge. If WSAs are identified, we will complete the wilderness review process for each WSA.

We have managed our existing WSAs in a manner that preserves wilderness character in accordance with (1) the Refuges' respective CCPs; (2) regulations on administration and use of areas under the jurisdiction of the Secretary of the Interior which may be designated as wilderness areas (43 CFR 35); and (3) Service policy on areas pending designation as wilderness. The documents containing the existing wilderness inventories and reviews are available on our Web site http://www.fws.gov/pacificislandsrefuges/wilderness.html.

Refuges With Special Considerations

Site visits by Service staff to Wake Atoll Refuge have been limited. We will conduct the Wake Atoll wilderness inventory as opportunities for site visits become available. If we identify a WSA at the Refuge, it will be evaluated in the Draft WR/LEIS.

The submerged lands that make up the Mariana Trench Refuge were established as a national wildlife refuge as part of the Mariana Trench Marine National Monument in accordance with Secretary's Order 3284. The Refuge will not be part of our WR/LEIS, because we are deferring its wilderness inventory and review until our technological capabilities can provide a viable assessment of the minimum criteria for wilderness on the Refuge.

Scoping: Preliminary Issues, Concerns, and Opportunities

We have identified the following preliminary issues, concerns, and opportunities that we may consider during the development of the WR/LEIS. We may identify additional issues during the public comment period. We will consider and address public comments during development of the WR/LEIS.

• Which Refuge Complex lands and waters are of such quality that they should be included in wilderness proposals identified in the WR/LEIS alternatives?

• How would current or planned refuge uses, including natural resource management activities, public visitation, and scientific research, be affected in areas identified in potential wilderness recommendations?

• How would our management of refuge resources, including historic and cultural artifacts, biological resources, and physical attributes such as water quality and soils, be affected in areas identified in potential wilderness recommendations?

• How should global climate change and its potential impacts be considered in the evaluation of wilderness?

Public Involvement

We will develop the WR/LEIS in a manner that will provide participation opportunities for the public; Federal, State, Territorial, and local government agencies; and other interested parties. We request your input regarding issues and suggestions important to you and the evaluation of potential wilderness recommendations.

Public Availability of Comments

Before including your address, phone number, email address, or other personal identifying information in your comment, you should be aware that your entire comment—including your personal identifying information—may be made publicly available at any time. While you can ask us in your comment to withhold your personal identifying information from public review, we cannot guarantee that we will be able to do so.

Dated: December 12, 2011.
Richard Hannan,
Acting Regional Director, Pacific Region, Portland, Oregon.

[FR Doc. 2011-32222 Filed 12-15-11; 8:45 am]

BILLING CODE 4310-55-P